DEPARTMENT OF TRANSPORTATION

National Highway Traffic Safety Administration

[Docket No. NHTSA-2005-22027]

Notice of Technical Workshop and Demonstration—Wednesday, September 21, 2005

AGENCY: National Highway Traffic Safety Administration (NHTSA), DOT.

ACTION: Notice of technical workshop and demonstration.

SUMMARY: This notice announces that NHTSA will hold a compliance test program workshop to discuss and demonstrate the Office of Vehicle Safety Compliance (OVSC) Laboratory Test Procedure (TP) for the agency's safety standard for tire pressure monitoring systems (TPMS). Vehicle manufacturers, tier-one TPMS suppliers, TPMS component manufacturers, and other interested persons with technical knowledge of TPMS who wish to participate in the workshop are asked to pre-register and are invited to submit related technical issues for discussion at the meeting.

DATES: Workshop: The workshop and demonstration of the test procedure will be held on September 21, 2005 from 8:30 a.m. to 5 p.m. (If a second day is needed, the workshop will extend into September 22, 2005.)

Pre-registration: Persons wishing to participate in the workshop should contact NHTSA at the address or electronic mail listed below by August 31, 2005. (Due to space limitations, NHTSA may have to limit the number of participants per organization.)

Submission of Agenda Issues: Written suggestions regarding technical issues to be included in the agenda should be submitted to the address below and must be received by the agency on or before August 31, 2005.

ADDRESSES: Workshop: The workshop and demonstration will be held in San Angelo, Texas near the OVSC San Angelo Test Facility. Directions to the meeting location and a final agenda will be sent to registered participants.

Submission of Agenda Issues: You may submit comments identified by DOT DMS Docket Number NHTSA 2005-22027 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting comments.

Instructions: All submissions must include the agency name and docket number for this technical workshop notice. Note that all comments received will be posted without change to http://dms.dot.gov, including any personal information provided.

Docket: For access to the docket to read comments received, go to http://dms.dot.gov at any time or to Room PL-401 on the plaza level of the Nassif Building, 400 Seventh Street, SW., Washington, DC, between 9 a.m. and 5 p.m., Monday through Friday, except Federal Holidays.

FOR FURTHER INFORMATION CONTACT: For technical issues, contact Theresa Lacuesta, Office of Vehicle Safety Compliance, NVS-221, National Highway Traffic Safety Administration, 400 Seventh Street, SW., Washington, DC 20590, telephone (202) 366-2319, facsimile (202) 366-3081, electronic mail “tlacuesta@nhtsa.dot.gov”. For registration, contact Lorri Hamn at the same address, telephone (202) 366-9896, facsimile (202) 493-2266, electronic mail “lhamn@nhtsa.dot.gov”.

SUPPLEMENTARY INFORMATION: On April 8, 2005, NHTSA published a final rule establishing Federal Motor Vehicle Safety Standard (FMVSS) No. 138, Tire Pressure Monitoring Systems (70 FR 18136). This final rule requires new passenger cars, multi-purpose passenger vehicles, trucks, and buses with a gross vehicle weight rating of 4,536 kg (10,000 pounds) or less, except those with dual wheels on an axle, to be equipped with a TPMS to alert the driver when one or more of the vehicle's tires, up to a total of all four tires, is significantly under-inflated. Specifically, the TPMS must be capable of detecting when the pressure in one or more of the vehicle's tires is 25 percent or more below the vehicle manufacturer's recommended cold inflation pressure or a minimum activation pressure specified in the standard, whichever is higher. As reflected in the final rule, FMVSS No. 138 is a performance standard. Petitions for reconsideration of the final rule have been received and may be viewed on DOT Web site http://dms.dot.gov, (reference docket number NHTSA-2005-20586). The scope of this workshop is strictly limited to issues surrounding implementation of OVSC Laboratory Test Procedure TP-138, including subsequent amendments, if any, resulting from the agency's response to petitions for reconsideration. TP-138 is posted on the NHTSA Web site at http://www.nhtsa.dot.gov (under “Test Procedures” on the Vehicles and Equipment page).

To enable interested parties and NHTSA personnel to discuss the questions concerning TP-138, NHTSA believes that it would be desirable to hold a technical workshop and demonstration on the test procedure. As noted above, persons wishing to participate in the workshop are requested to notify Lori Hamn by facsimile, mail or electronic mail no later than August 31, 2005. Prospective attendees should indicate their name, title, and organizational affiliation. Once the agency compiles a list of all prospective attendees, NHTSA will determine whether the number of participants per organization must be limited due to space constraints.

In order to facilitate discussions, the agency requests that interested parties submit written suggestions regarding topics pertaining to TP-138 for inclusion in the agenda for this workshop. Copies of all written submissions and the final agenda will be placed in the docket for this notice. The agency will include as many of the suggested topics in the final agenda as appropriate. The following is a preliminary agenda for the workshop.

Agenda

The workshop will begin at 8:30 a.m. on September 21, 2005 and conclude by 5 p.m. The agency has not decided if physical demonstrations will be included. If physical demonstrations are conducted, sessions may extend into September 22, 2005.

I. Introduction

II. Background Information on the San Angelo Test Facility and Treadwear Test Course

III. FMVSS No. 138 Final Rule Highlights

IV. OVSC Test Procedure TP-138 Content

A. Overview of Suggested Test Equipment and Instrumentation

B. Test Preparation Requirements

C. Test Execution

V. Vehicle Manufacturer Test Specification Form

VI. Issues with Test Procedure TP-138

VII. Questions & Answers

VIII. Simulated and/or Physical Demonstration of a TPMS-Equipped Vehicle Using the Test Procedures

Issued: August 17, 2004.
Claude H. Harris,
Director, Office of Vehicle, Safety Compliance.
Editorial Note: This document was received at the Office of the Federal Register August 17, 2005.

[FR Doc. 05-16631 Filed 8-22-05; 8:45 am]

BILLING CODE 4910-59-P